DEPARTMENT OF TRANSPORTATION

Federal Aviation Administration

14 CFR Part 39

[Docket No. 99-NM-105-AD; Amendment 39-12703; AD 2002-07-09]

RIN 2120-AA64

Airworthiness Directives; Boeing Model 727, 727C, 727-100, 727-100C, 727-200, and 727-200F Series Airplanes

AGENCY: Federal Aviation Administration, DOT.

ACTION: Final rule; correction.

SUMMARY: This document corrects information in an existing airworthiness directive (AD that applies to certain Boeing Model 727, 727C, 727-100, 727-100C, 727-200, and 727-200F series airplanes. That AD currently requires repetitive inspections to find cracking of the lower skin panel at the lower row of fasteners in certain lap joints of the fuselage, and repair, if necessary. This document corrects a typographical error in the supplemental type certificate (STC) number specified in paragraph (i) of that AD. This correction is necessary to ensure that the correct STC number is specified and operators of affected airplanes are advised of all applicable actions.

DATES: Effective May 17, 2002.

The incorporation by reference of certain publications listed in the regulations was approved previously by the Director of the Federal Register as of May 17, 2002 (67 FR 17923, April 12, 2002).

FOR FURTHER INFORMATION CONTACT: Walt Sippel, Aerospace Engineer, Airframe Branch, ANM-120S, FAA, Seattle Aircraft Certification Office, 1601 Lind Avenue, SW., Renton, Washington 98055-4056; telephone (425) 227-2774; fax (425) 227-1181.

SUPPLEMENTARY INFORMATION: On April 2, 2002, the Federal Aviation Administration (FAA) issued AD 2002-07-09, amendment 39-12703 (67 FR 17923, April 12, 2002), which applies to all Boeing Model 727, 727C, 727-100, 727-100C, 727-200, and 727-200F series airplanes. That AD currently requires repetitive inspections to find cracking of the lower skin panel at the lower row of fasteners in certain lap joints of the fuselage, and repair, if necessary. That AD was prompted by the FAA's determination that, in light of additional crack findings, certain modifications of the fuselage lap joints are necessary. The actions required by that AD are intended to find and fix fatigue cracking of the fuselage lap joints, which could result in sudden fracture and failure of the lower skin lap joints, and rapid decompression of the airplane.

Need for the Correction

The FAA notes that there is a typographical error in the STC number specified in paragraph (i) of the AD.

The FAA has determined that a correction to AD 2002-07-09 is necessary to correctly identify the STC number.

Correction of Publication

This document corrects the error and correctly adds the AD as an amendment to section 39.13 of the Federal Aviation Regulations (14 CFR 39.13).

The AD is reprinted in its entirety for the convenience of affected operators. The effective date of the AD remains May 17, 2002.

Since this action only corrects a typographical error, it has no adverse economic impact and imposes no additional burden on any person. Therefore, the FAA has determined that notice and public procedures are unnecessary.

List of Subjects in 14 CFR Part 39

Air transportation, Aircraft, Aviation safety, Incorporation by reference, Safety.

Adoption of the Correction

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Corrected]

2. Section 39.13 is amended by correctly adding the following airworthiness directive (AD):

2002-07-09 Boeing: Amendment 39-12703. Docket 99-NM-105-AD.

Applicability: Model 727 series airplanes, as listed in Boeing Service Bulletin 727-53A0222, Revision 1, including Appendix A, dated March 15, 2001, certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (l)(1) of this AD. The request should include an assessment of the effect of the modification, alteration, or repair on the unsafe condition addressed by this AD; and, if the unsafe condition has not been eliminated, the request should include specific proposed actions to address it.

Compliance: Required as indicated, unless accomplished previously.

To find and fix fatigue cracking in the lower skin panel at the lower row of fasteners of the fuselage lap joints, which could result in sudden fracture and failure of the lap joints, and rapid decompression of the airplane; accomplish the following:

Initial and Repetitive Inspections

(a) Do either an external low frequency eddy current (LFEC) inspection to find cracking, or both internal detailed and medium frequency eddy current (MFEC) inspections to find cracking or corrosion, in the lower skin panels of the lower row of fasteners of the fuselage lap joints per Part I of the Accomplishment Instructions of Boeing Service Bulletin 727-53A0222, Revision 1, including Appendix A, dated March 15, 2001. Do the applicable inspection at the earlier of the times specified in paragraphs (a)(1) and (a)(2) of this AD on the lap joints identified in Tables A through H and J through N of Section 1.E., “Compliance,” of Paragraph 1, Planning Information, of the service bulletin. Except as provided by paragraph (b) of this AD, after doing the applicable initial inspection, repeat that inspection at the intervals specified in Tables A through G or J through N of the service bulletin.

(1) At the latest of the times specified for the initial inspection in Tables A through H (for Groups 1, 2, 3, and 5 airplanes), or Tables J through N (for Groups 3 and 4 airplanes), as applicable, of Section 1.E., “Compliance,” of the service bulletin, except where the compliance time in the service bulletin specifies a compliance time interval based on “the release of this service bulletin,” this AD requires compliance within the interval specified in the service bulletin “after the effective date of this AD.”

(2) Within 600 flight cycles after the last LFEC inspection or 7,000 flight cycles after the last MFEC inspection, if any, is accomplished in accordance with AD 99-04-22, amendment 39-11047.

Note 2: Groups 1-5 are defined in the effectivity section of the service bulletin.

Note 3: For the purposes of this AD, a detailed inspection is defined as: “An intensive visual examination of a specific structural area, system, installation, or assembly to find damage, failure, or irregularity. Available lighting is normally supplemented with a direct source of good lighting at intensity deemed appropriate by the inspector. Inspection aids such as mirror, magnifying lenses, etc., may be used. Surface cleaning and elaborate access procedures may be required.”

(b) For Model 727-200 series airplanes: The repetitive inspection intervals for lap joints identified in Table H of Section 1.E., “Compliance,” of Paragraph 1, Planning Information, of Boeing Service Bulletin 727-53A0222, Revision 1, including Appendix A, dated March 15, 2001, decrease with increasing flight cycles. Perform the repetitive inspections listed in Table H of the service bulletin at the thresholds and intervals specified in paragraph (b)(1), (b)(2), (b)(3), or (b)(4) of this AD, as applicable.

Note 4: Table H of Boeing Service Bulletin 727-53A0222, Revision 1, has different inspection procedures for airplanes that have accumulated fewer than 35,000 total flight cycles, and airplanes that have accumulated 35,000 or more, but fewer than 45,000 total flight cycles.

(1) If, at the time of the most recent inspection required by paragraph (a) or (b) of this AD, the airplane has accumulated fewer than 35,000 total flight cycles: Perform LFEC inspections at intervals not to exceed 600 flight cycles, or detailed internal visual and MFEC inspections at intervals not to exceed 7,000 flight cycles.

(2) If, at the time of the most recent inspection required by paragraph (a) or (b) of this AD, the airplane has accumulated 35,000 or more, but fewer than 45,000 total flight cycles: Perform LFEC inspections at intervals not to exceed 600 flight cycles, or detailed internal visual and MFEC inspections at intervals not to exceed 7,000 flight cycles.

(3) If, at the time of the most recent inspection required by paragraph (a) or (b) of this AD, the airplane has accumulated 45,000 or more, but fewer than 55,000 total flight cycles: Perform detailed internal visual and MFEC inspections at intervals not to exceed 2,000 flight cycles.

(4) If, at the time of the most recent inspection required by paragraph (a) or (b) of this AD, the airplane has accumulated 55,000 or more total flight cycles: Perform LFEC inspections at intervals not to exceed 300-flight-cycle intervals.

Note 5: Inspections done prior to the effective date of this AD per Boeing Alert Service Bulletin 727-53A0222, dated July 27, 2000, are considered acceptable for compliance with the applicable action specified in this amendment.

Compliance Plan

(c) For airplanes on which the modification required by paragraph (d) of this AD has not been done as of the effective date of this AD: Within 3 months after the effective date of this AD, submit a plan to the FAA identifying a schedule for compliance with paragraph (d) of this AD. This schedule must include, for each of the operator's affected airplanes, the estimated dates when the required actions will be accomplished. For the purposes of this paragraph, “FAA” means the Principal Maintenance Inspector (PMI) for operators that are assigned a PMI, or the cognizant Flight Standards District Office for other operators. Information collection requirements contained in this regulation have been approved by the Office of Management and Budget (OMB) under the provisions of the Paperwork Reduction Act of 1980 (44 U.S.C. 3501 et seq.) and have been assigned OMB Control Number 2120-0056.

Note 6: Operators are not required to submit revisions to the compliance plan required by paragraph (c) of this AD to the FAA.

Modification/Post-Modification Inspections

(d) For Model 727-200 series airplanes: Do the modification listed in Table H of Section 1.E., “Compliance,” of Paragraph 1, Planning Information, of Boeing Service Bulletin 727-53A0222, Revision 1, including Appendix A, dated March 15, 2001; per Part II of the Accomplishment Instructions of the service bulletin, at the threshold specified in paragraph (d)(1), (d)(2), or (d)(3) of this AD, as applicable. Within 35,000 flight cycles after doing the modification, do the post-modification inspections for cracking in the skin, per Part III of the Accomplishment Instructions of the service bulletin. Accomplishment of this paragraph terminates the repetitive inspections required by paragraph (b) of this AD.

(1) For airplanes that have accumulated fewer than 35,000 total flight cycles on the effective date of the AD: Accomplish the modification prior to 48,000 total flight cycles.

(2) For airplanes that have accumulated 35,000 or more, but fewer than 55,000 total flight cycles on the effective date of the AD: Accomplish the modification prior to 55,000 total flight cycles, or within 2,000 flight cycles after the effective date of this AD, whichever is later.

(3) For airplanes that have accumulated 55,000 or more total flight cycles on the effective date of the AD: Accomplish the modification within 2,000 flight cycles after the effective date of this AD.

Repair

(e) If any cracking or corrosion is found during any inspection required by paragraph (a), (b), or (d) of this AD: Before further flight, repair per Boeing Service Bulletin 727-53A0222, Revision 1, including Appendix A, dated March 15, 2001. Where the service bulletin specifies to contact Boeing for repair instructions, repair per a method approved by the Manager, Seattle Aircraft Certification Office (ACO), FAA; or per data meeting the type certification basis of the airplane approved by a Boeing Company DER who has been authorized by the Manager, Seattle ACO, to make such findings. For a repair method to be approved by the Manager, Seattle ACO, as required by this paragraph, the approval letter must specifically reference this AD.

Concurrent Modifications

(f) For Model 727-200 series airplanes modified per supplemental type certificate (STC) SA1368SO or SA1797SO: Concurrent with the modification of the fuselage lap joints required by paragraph (d) of this AD, do the inspection for cracking of the lower row of fasteners in the lower skin of the lap joints, and the modification specified in Aeronautical Engineers Inc. Service Bulletin AEI 00-01, Revision A, dated May 7, 2001, per the service bulletin.

(g) For Model 727-200 series airplanes modified per STCs SA1444SO and SA1509SO: Concurrent with the modification of the fuselage lap joints required by paragraph (d) of this AD, do the inspection for cracking of the lower row of fasteners in the lower skin of the lap joints, and the modification specified in PEMCO Service Bulletin 727-53-0007, Revision 1, dated June 6, 2001, per the service bulletin.

(h) For Model 727-200 series airplanes modified per STC SA00015AT: Concurrent with the modification of the fuselage lap joints required by paragraph (d) of this AD, do the inspection for cracking of the lower row of fasteners in the lower skin of the lap joints, and the modification specified in Aircraft Technical Service, Inc., Service Bulletin ATS 727-001, dated May 7, 2001, per the service bulletin.

(i) For Model 727-200 series airplanes modified per STC SA1767SO: Concurrent with the modification of the fuselage lap joints required by paragraph (d) of this AD, do the inspection for cracking of the lower row of fasteners in the lower skin of the lap joints, and the modification specified in Federal Express Corporation Service Bulletin 00-029, Revision A, including Attachment A, dated May 16, 2001, per the service bulletin.

(j) Within 2,200 flight cycles after doing the applicable modification specified in paragraph (f), (g), (h), or (i) of this AD, do the post-modification inspection for cracking in the skin per the applicable service bulletin specified in Table 1, below. Repeat the applicable inspection after that at intervals not to exceed 2,200 flight cycles. Table 1 follows:

Table 1.—Service Bulletins
Service bulletin | Date
Aeronautical Engineers Inc. Service Bulletin AEI 00-01, Revision A | May 7, 2001.
Aircraft Technical Service, Inc., Service Bulletin ATS 727-001 | May 7, 2001.
Federal Express Corporation Service Bulletin 00-029, Revision A, including Attachment A | May 16, 2001.
PEMCO Service Bulletin, 727-53-0007, Revision 1 | June 6, 2001.

Repair

(k) If any cracking is found during any inspection required by paragraph (f), (g), (h), or (i) of this AD: Before further flight, repair per the applicable service bulletin as provided in Table 1 in paragraph (j) of this AD. Where cracks exceed the limits provided in the service bulletin, and the bulletin specifies to contact the provider of the service bulletin for repair instructions, prior to further flight, repair per a method approved by the Manager, Seattle ACO. If any cracking is found during any inspection required by paragraph (j) of this AD: Before further flight, repair per a method approved by the Manager, Seattle ACO. For a repair method to be approved by the Manager, Seattle ACO, as required by this paragraph, the approval letter must specifically reference this AD.

Alternative Methods of Compliance

(l)(1) An alternative method of compliance or adjustment of the compliance time that provides an acceptable level of safety may be used if approved by the Manager, Seattle ACO. Operators shall submit their requests through an appropriate FAA PMI, who may add comments and then send it to the Manager, Seattle ACO.

(2) Alternative methods of compliance, approved previously per AD 99-04-22, amendment 39-11047, are approved as alternative methods of compliance with this AD.

Note 7: Information concerning the existence of approved alternative methods of compliance with this AD, if any, may be obtained from the Seattle ACO.

Special Flight Permits

(m) Special flight permits may be issued in accordance with sections 21.197 and 21.199 of the Federal Aviation Regulations (14 CFR 21.197 and 21.199) to operate the airplane to a location where the requirements of this AD can be accomplished.

Incorporation by Reference

(n) Except as provided by paragraphs (c), (e), and (k) of this AD, the actions shall be done in accordance with the following service bulletins, as applicable:

Table 2.—Service Bulletins
Service bulletin | Date
Aeronautical Engineers Inc. Service Bulletin AEI 00-01, Revision A | May 7, 2001.
Aircraft Technical Service, Inc., Service Bulletin ATS 727-001 | May 7, 2001.
Boeing Service Bulletin 727-53A0222, Revision 1, including Appendix A | March 15, 2001.
Federal Express Corporation Service Bulletin 00-029, Revision A, including Attachment A | May 16, 2001.
PEMCO Service Bulletin 727-53-0007, Revision 1 | June 6, 2001.

This incorporation by reference was approved previously by the Director of the Federal Register in accordance with 5 U.S.C. 552(a) and 1 CFR part 51 as of May 17, 2002 (67 FR 17923, April 12, 2002). Copies may be obtained from Boeing Commercial Airplane Group, P.O. Box 3707, Seattle, Washington 98124-2207. Copies may be inspected at the FAA, Transport Airplane Directorate, 1601 Lind Avenue, SW., Renton, Washington; or at the Office of the Federal Register, 800 North Capitol Street, NW., suite 700, Washington, DC.

Effective Date

(o) The effective date of this amendment remains May 17, 2002.

Issued in Renton, Washington, on May 6, 2002.
Kalene C. Yanamura,
Acting Manager, Transport Airplane Directorate, Aircraft Certification Service.

[FR Doc. 02-11803 Filed 5-10-02; 8:45 am]

BILLING CODE 4910-13-P